DEPARTMENT OF THE INTERIOR

National Park Service

[NPS-WASO-NRNHL-0611-7651; 2280-665]

National Register of Historic Places; Notification of Pending Nominations and Related Actions

Nominations for the following properties being considered for listing or related actions in the National Register were received by the National Park Service before June 3, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted July 11, 2011. Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

ALABAMA

Randolph County

Wadley Railroad Depot, Broad St. at NE. corner of Tallapoosa St., Wadley, 11000428

CALIFORNIA

Los Angeles County

Hafley, Olan G. and Aida T., House, 5561 E. La Pasada St., Long Beach, 11000429

Monterey County

Republic Cafe, 37 Soledad St., Salinas, 11000430

Orange County

WILD GOOSE (yacht), 2431 West Coast Hwy., Newport Beach, 11000431

Riverside County

Grand Boulevard Historic District, Grand Blvd., Corona, 11000432

Siskiyou County

Forest House, 4204 CA 3, Yreka, 11000433

CONNECTICUT

Fairfield County

Camp, Issac, Property, Address Restricted, Norwalk, 11000434

Hartford County

Fairfield Avenue Historic District, Roughly along Fairfield Ave. from Trinity College to Cedar Hill Cemetery, Hartford, 11000435

FLORIDA

Volusia County

South Ridgewood Elementary School, 747 S. Ridgewood Ave., Daytona Beach, 11000436

HAWAII

Maui County

Baldwin, Fred C., Memorial Home, 1813 Baldwin Ave., Makawao, 11000437

INDIANA

La Porte County

German St. Paul's Church, 5 Beech St., Otis, 11000438

MISSOURI

Adair County

Journal Printing Company Building, 119 S. Elson St., Kirksville, 11000439

Butler County

North Main Street Historic District, (Poplar Bluff MPS) 400 blk. of N. Main St., Poplar Bluff, 11000440

Jackson County

Simpson-Yeomans-Country Side Historic District (Boundary Increase), E. 52nd St., Brookside Blvd., Oak, E. 57th & Main Sts., Kansas City, 11000441

Polk County

North Ward School, 201 W. Locust St., Bolivar, 11000442

St. Louis Independent City

Central Carondelet Historic District (Boundary Increase IV), Roughly bounded by S. Broadway, Pennsylvania Ave., I 55, Bates & Delor Sts., St. Louis (Independent City), 11000443

Lange, William A., Subdivision, 4101-4235 Florissant Ave., 4128-4150 Glasgow Ave., 2141-2325 Angelica St., 4111-4220 N. 22nd St., St. Louis (Independent City), 11000444

Twain, Mark, Elementary School, (St. Louis Public Schools of William B. Ittner MPS) 5316 Ruskin Ave., St. Louis (Independent City), 11000445

Western Electric—Southwestern Bell Telephone Distribution House, 4250 Duncan St., St. Louis (Independent City), 11000446

NEW JERSEY

Hunterdon County

Headquarters Historic District, Rosemont-Ringoes Rd., Zentek Rd. (Delaware Township), Sergeantsville, 11000447

Morris County

Methodist Episcopal Church of Hibernia, 419 Green Pond Rd. (Rockaway Township), Hibernia, 11000448

Vanness—Linen House, 211 Hamburg Tnpk., Riverdale Borough, 11000449

NEW YORK

Montgomery County

Van Wie Farmstead, 269 Brower Rd., McKinley, 11000450

Rockland County

Gurnee—Sherwood House, 29 Spook Hill Rd., Wesley Hills, 11000451

Saratoga County

Best, Abraham, House, 113 Vischer Ferry Rd., Vischer Ferry, 11000452

Westchester County

Hartsdale Railroad Station, 1 E. Hartsdale Ave., Hartsdale, 11000453

TENNESSEE

Davidson County

Fort Nashborough, Riverfront Park on 1st Ave., Nashville, 11000454

Tennessee State Office Building, 6th Ave., N. & Charlotte Ave., Nashville, 11000455

Franklin County

Asia School, 525 Asia Rd., Asia, 11000456

Knox County

Contractor's Supply, Inc., 1909 Schofield St., Knoxville, 11000457

Robertson County

Russell House, 2520 Memorial Blvd., Springfield, 11000458

Rutherford County

Searcy—Matthews—Tarpley Farm, (Historic Family Farms in Middle Tennessee MPS) 455 W. Jefferson Pike, Walter Hill, 11000459

Shelby County

Memphis Landing, E. side of Wolf R. Harbor between Court and Beale Sts., Memphis, 11000460

WISCONSIN

Dane County

Frey School, 8847 Co. Rd. Y, Roxbury, 11000461

Milwaukee County

Kinnickinnic River Parkway, (Milwaukee County Parkway System) Between S. 72nd & S. 16th Sts., Milwaukee, 11000462

A request for REMOVAL has been made for the following resources:

INDIANA

Wells County

Grove, John A., House, 521 W. Market St., Bluffton, 83000045

LOUISIANA

Orleans Parish

New Canal Lighthouse, West End Blvd. & Lakeshore Dr., New Orleans, 85003186

NEBRASKA

Douglas County

South Omaha Bridge, US 275/NE 92 over the Missouri R., Omaha, 92000742

Hamilton County

Hearn, Kathleen, Building, 10th & O Sts., Aurora, 84002480

Royal Highlanders Building, 1235 M St., Aurora, 85002144

Kimball County

Stone Building, 126 S. Chestnut St., Kimball, 83001097

[FR Doc. 2011-15767 Filed 6-23-11; 8:45 am]

BILLING CODE 4312-51-P